NATIONAL SCIENCE FOUNDATION

Agency Information Collection Activities: Comment Request; 2021 National Survey of College Graduates

AGENCY: National Science Foundation.

ACTION: Submission for OMB Review; Comment Request.

SUMMARY: The National Science Foundation (NSF) has submitted the following information collection requirement to OMB for review and clearance under the Paperwork Reduction Act of 1995. This is the second notice for public comment; the first was published in the Federal Register, and two comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556.

SUPPLEMENTARY INFORMATION: NSF may not conduct or sponsor a collection of information unless the collection of information displays a currently valid OMB control number and the agency informs potential persons who are to respond to the collection of information that such persons are not required to respond to the collection of infor Title of Collection: Graduate Research Fellowship Program.

OMB Control Number: 3145-0141.

Summary of Collection: The National Survey of College Graduates (NSCG) has been conducted biennially since the 1970s. The 2021 NSCG sample will be selected from the 2019 American Community Survey (ACS) and the 2019 NSCG, providing coverage of the college graduate population residing in the United States. The purpose of this repeated cross-sectional survey is to collect data that will be used to provide national estimates on the science and engineering workforce and changes in their employment, education, and demographic characteristics.

The National Science Foundation Act of 1950, as subsequently amended, includes a statutory charge to “. . . provide a central clearinghouse for the collection, interpretation, and analysis of data on scientific and engineering resources, and to provide a source of information for policy formulation by other agencies of the Federal Government.” The NSCG is designed to comply with these mandates by providing information on the supply and utilization of the nation's scientists and engineers.

The U.S. Census Bureau, as in the past, will conduct the NSCG for NSF. The survey data collection will begin in February 2021 using web and mail questionnaires. Nonrespondents to the web or mail questionnaire will be followed up by computer-assisted telephone interviewing. The individual's response to the survey is voluntary. The survey will be conducted in conformance with Census Bureau statistical quality standards and, as such, the NSCG data will be afforded protection under the applicable Census Bureau confidentiality statutes.

Use of the Information: NSF uses the information from the NSCG to prepare congressionally mandated reports such as Women, Minorities and Persons with Disabilities in Science and Engineering and Science and Engineering Indicators. A public release file of collected data, designed to protect respondent confidentiality, will be made available to researchers on the internet.

Expected Respondents: A statistical sample of approximately 169,000 persons will be contacted in 2021. This 169,000 sample is a 5,000 case increase over the sample size listed in the first notice for public comment in the Federal Register at 85 FR 23537. The larger sample size enables the inclusion of a non-production bridge panel as part of the 2021 NSCG to quantify the potential impact of question wording modifications on key survey estimates. NSF estimates the 2021 NSCG response rate to be 65 to 75 percent.

Estimate of Burden: The amount of time to complete the questionnaire may vary depending on an individual's circumstances; however, on average it will take approximately 25 minutes to complete the survey. NSF estimates that the average annual burden for the 2021 NSCG over the course of the three-year OMB clearance period will be no more than 17,604 hours [(169,000 sample persons × 75% response × 25 minutes)/3 years].

Comments: As required by 5 CFR 1320.8(d), comments on the information collection activities as part of this study were solicited through the publication of a 60-Day Notice in the Federal Register on 28 April 2020, at 85 FR 23537. We received two comments. The nature of each comment and our responses are summarized below.

Comment: On 28 April 2020, Dr. Andrew Reamer of George Washington University sent an email to NSF on behalf of the American Economic Association's Committee on Economic Statistics. He requested the draft information collection request (ICR) materials for the 2021 NSCG and asked whether any changes were proposed for the 2021 NSCG compared to the 2019 NSCG.

Response: NSF responded to Dr. Reamer on 7 May 2020, explaining that the 2021 NSCG ICR materials were in the process of being prepared and that there were no substantive changes planned. He was directed to the 2019 NSCG questionnaires on the NSF website, which would be updated to reflect the survey year. After NSF decided to consider revisions to NSCG questionnaire items to gauge the effects of the coronavirus pandemic on workforce issues, a follow-up email was sent to Dr. Reamer on 8 July 2020, informing him that revised items were being developed for testing and any proposed revisions would be included in the ICR submitted to OMB.

Comment: On 28 June 2020, Dr. Jon Freeman of New York University sent an email to NSF on behalf of the American Association for the Advancement of Science (AAAS) and the American Educational Research Association (AERA). He requested that measures of sexual orientation and gender identity (SOGI) be included in the 2021 NSCG and other future surveys of the National Center for Science and Engineering Statistics (NCSES).

Response: NSF responded to Dr. Freeman on 21 September 2020, informing him that NCSES intends to pursue research into the feasibility of collecting consistent and reliable SOGI data from individuals. However, due to time and resource constraints, no SOGI measures would be ready for inclusion in the 2021 NSCG.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: September 21, 2020.
Suzanne H. Plimpton,
Reports Clearance Officer, National Science Foundation.

[FR Doc. 2020-21156 Filed 9-24-20; 8:45 am]

BILLING CODE 7555-01-P